DEPARTMENT OF COMMERCE

National Oceanic and Atmospheric Administration

[RTID 0648-XC108]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day in-person meeting of its Standing, Reef Fish, Socioeconomic, and Ecosystem Scientific and Statistical Committees (SSC).

DATES: The meeting will take place Thursday, July 7 and Friday, July 8, 2022, from 9 a.m. to 5 p.m., EDT daily.

ADDRESSES: If you are unable to attend in-person, the public may listen-in to the meeting via webinar. Registration information will be available on the Council's website by visiting www.gulfcouncil.org and clicking on the “meeting tab”.

Council address: Gulf of Mexico Fishery Management Council, 4107 W. Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Thursday, July 7, 2022; 9 a.m.-5 p.m., EDT

The meeting will begin with Introductions and Adoption of Agenda, Approval of Verbatim Minutes and Meeting Summary from the May 10-11, 2022, meeting, and review of Scope of Work. The Committees will select an SSC Representative for the August 22-25, 2022, Gulf Council Meeting. Following, Committees will receive review a presentation and report on the Alternate Model Run for SEDAR 72 Base Model using Florida's State Reef Fish Survey, including other background materials for SSC discussion.

The Committees will then review Discards Data for Gulf Gag Grouper, Red Grouper, Greater Amberjack, and Red Snapper, including a presentation and background materials. The Committees will then receive a presentation on a Decision-support Tool for Evaluating the Impacts of Short- and Long-term Management Decisions on the Gulf of Mexico Red Snapper Resource, including background material and discussion. Public comment will be heard at the end of the day.

Friday, July 8, 2022; 9 a.m.-5 p.m., EDT

The Committees will discuss the Council's Acceptable Biological Catch Control Rule Modifications. The Committees will then receive a presentation and discuss the Southeast Fisheries Science Center's Wenchman Data Evaluation, and will discuss Consideration of Stock-specific Catch Limits with testimony from industry.

Lastly, the Committees will receive public comment before addressing any items under Other Business.

—Meeting Adjourns

The meeting will be also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: June 16, 2022.
Tracey L. Thompson,
Acting Deputy Director, Office of Sustainable Fisheries, National Marine Fisheries Service.

[FR Doc. 2022-13327 Filed 6-21-22; 8:45 am]

BILLING CODE 3510-22-P